DEPARTMENT OF THE INTERIOR

Fish and Wildlife Service

[FWS-HQ-FAC-2014-N196; FXFR133609ANS09-FF09F14000-134]

Aquatic Nuisance Species Task Force Meeting

AGENCY: Fish and Wildlife Service, Interior.

ACTION: Notice of meeting.

SUMMARY: We, the U.S. Fish and Wildlife Service, announce a public meeting of the Aquatic Nuisance Species (ANS) Task Force, which consists of 13 Federal and 13 ex-officio members. The ANS Task Force's purpose is to develop and implement a program for U.S. waters to prevent introduction and dispersal of aquatic invasive species (AIS); to monitor, control, and study such species; and to disseminate related information.

DATES: The ANS Task Force will meet from 8 a.m. to 4:30 p.m. on Wednesday, November 5, and Thursday, November 6, 2014. For security purposes, registration for the meeting is required. If you wish to attend the meeting, you must register by contacting the ANS Task Force Executive Secretary (see FOR FURTHER INFORMATION CONTACT) no later than October 30, 2014.

ADDRESSES: The ANS Task Force meeting will take place at the U.S. Fish and Wildlife Service, Lucille Stickel Conference Room (1W108), 5275 Leesburg Pike, Falls Church, VA 22041-3803 (telephone: 703-358-2398).

FOR FURTHER INFORMATION CONTACT: Laura Norcutt, Acting Executive Secretary, ANS Task Force, by telephone at (703) 358-2398, or by email at Laura_Norcutt@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 13 ex-officio members, and co-chaired by the U.S. Fish and Wildlife Service and the National Oceanic and Atmospheric Administration. The ANS Task Force provides advice on AIS infesting waters of the United States and other nations, among other duties as specified in the Act.

Meeting Agenda

• Addressing AIS Issues at Federally Managed Water Bodies

• Model State Inspection and Decontamination Legislation

• ANSTF Outreach Committee: Status of Recreational, Water Garden, and Classroom Guidelines

• Plans for Revitalizing Habitattitude

• eDNA Information Clearinghouse Web site

• Draft Lionfish Management Plan Approval

• West Virginia State AIS Management Plan Approval

• Implementation of Invasive Species Efforts for National Arctic Strategy

• Summit on Boat Construction in Consideration of AIS

• ANSTF Involvement with National Invasive Species Awareness Week

• Stop Aquatic Hitchhikers! Update

• Quagga Zebra Action Plan Update

• ANSTF Report to Congress

• Hydraulic Fracturing for Gas Development as an AIS Pathway

The final agenda and other related meeting information will be posted on the ANS Task Force Web site at http://anstaskforce.gov.

Meeting Minutes

Summary minutes of the meeting will be maintained by the Executive Secretary (see FOR FURTHER INFORMATION CONTACT). The minutes will be available for public inspection within 60 days after the meeting and will be posted on the ANS Task Force Web site at http://anstaskforce.gov.

Dated: October 3, 2014.
Jeffrey L. Underwood,
Acting Co-Chair, Aquatic Nuisance Species Task Force, Assistant Director for Fish and Aquatic Conservation.

[FR Doc. 2014-24067 Filed 10-8-14; 8:45 am]

BILLING CODE 4310-55-P